DEPARTMENT OF COMMERCE

International Trade Administration

[A-821-802]

Extension of Time Limit for Sunset Review of the Agreement Suspending the Antidumping Investigation on Uranium from the Russian Federation

AGENCY: Import Administration, International Trade Administration, U.S. Department of Commerce.

EFFECTIVE DATE: February 24, 2006.

FOR FURTHER INFORMATION CONTACT: Sally C. Gannon or Aishe Allen, Import Administration, International Trade Administration, U.S. Department of Commerce, 14th Street & Constitution Avenue, NW, Washington, DC 20230; (202) 482-0162 or (202) 482-0172, respectively.

SUPPLEMENTARY INFORMATION:

Extension of Time Limit for Sunset Review:

On November 10, 2005, the Department of Commerce (“the Department”) extended the time limit for the sunset review of the agreement suspending the antidumping investigation on uranium from the Russian Federation in accordance with section 751(c)(5)(B) of the Tariff Act of 1930, as amended (“the Act”). See, Extension of Time Limit for Sunset Review of the Agreement Suspending the Antidumping Investigation on Uranium from the Russian Federation, 70 FR 68397 (November 10, 2005) (“Notice of Extension”). On January 17, 2006, the Department determined to conduct a full sunset review of this suspended investigation. See, Memorandum from Sally C. Gannon to Ronald K. Lorentzen; “Sunset Review of Uranium from the Russian Federation: Adequacy of Domestic and Respondent Interested Party Responses to the Notice of Initiation and Decision to Conduct Full Sunset Review,” dated January 17, 2006. On January 24, 2006, the Department determined to provide an additional extension of the time limit for the preliminary results of this sunset review until February 17, 2006. See, Extension of Time Limit for Sunset Review of the Agreement Suspending the Antidumping Investigation on Uranium from the Russian Federation, 71 FR 3824 (January 24, 2006).

Pursuant to section 351.218(f) of the Department's regulations, the Department normally will issue its preliminary results in a full sunset review not later that 110 days after the date of publication in the Federal Register of the notice of initiation. However, as determined in the Notice of Extension, the sunset review of the agreement suspending the antidumping investigation on uranium from the Russian Federation is extraordinarily complicated and requires additional time for the Department to complete its analysis. Therefore, the Department is extending the deadline for the preliminary results in this proceeding by an additional 35 days and, as a result, intends to issue the preliminary results of the full sunset review no later than March 24, 2006. The Department will issue its final results of the full sunset review on May 30, 2006, as specified in the Notice of Extension.

This notice is issued in accordance with sections 751(c)(5)(B) and (C)(v) of the Act.

Dated: February 17, 2006.
Carole Showers,
Acting Director Office of Policy.

[FR Doc. E6-2677 Filed 2-23-06; 8:45 am]

BILLING CODE 3510-DS-S